DEPARTMENT OF VETERANS AFFAIRS

[OMB Control No. 2900-NEW-NSV]

Proposed Information Collection Activity: Proposed Collection; Comment Request

AGENCY: Office of Planning and Analysis, Department of Veterans Affairs.

ACTION: Notice.

SUMMARY: The Office of Planning and Analysis, Department of Veterans Affairs (VA), is announcing an opportunity for public comment on the proposed collection of certain information by the agency. Under the Paperwork Reduction Act (PRA) of 1995, Federal agencies are required to publish notice in the Federal Register concerning each proposed collection of information, including each proposed new collection of information, and allow 60 days for public comment in response to the notice. This notice solicits comments on the information that will be collected by a telephone survey concerning programs and services for veterans.

DATES: Written comments and recommendations on the proposed collection of information should be received on or before August 28, 2000.

ADDRESSES: Submit written comments on the collection of information to Susan Krumhaus, Office of Assistant Secretary for Planning and Analysis (008A), Department of Veterans Affairs, 810 Vermont Ave., NW., Washington, DC 20420. Please refer to “OMB Control No. 2900-NEW-NSV” in any correspondence.

FOR FURTHER INFORMATION CONTACT: Susan Krumhaus at (202) 273-5108 or FAX (202) 273-5993.

SUPPLEMENTARY INFORMATION: Under the PRA of 1995 (Public Law 104-13; 44 U.S.C. 3501-3520), Federal agencies must obtain approval from the Office of Management and Budget (OMB) for each collection of information they conduct or sponsor. This request for comment is being made pursuant to section 3506(c)(2)(A) of the PRA.

With respect to the following collection of information, the Office of Planning and Analysis invites comments on: (1) Whether the proposed collection of information is necessary for the proper performance of VA's functions, including whether the information will have practical utility; (2) the accuracy of VA's estimate of the burden of the proposed collection of information; (3) ways to enhance the quality, utility, and clarity of the information to be collected; and (4) ways to minimize the burden of the collection of information on respondents, including through the use of automated collection techniques or the use of other forms of information technology.

Title: National Survey of Veterans (NSV).

OMB Control Number: None assigned.

Type of Review: New collection.

Abstract: The NSV will be conducted in order to obtain current information relevant to the planning and budgeting of VA programs and services for veterans. The information collected from the telephone survey will also enable VA to study its role in the total use of benefits and services by veterans and provide current information about the characteristics of the veteran population. The survey will also provide information needed for research and policy analyses.

Affected Public: Individuals or households.

Estimated Annual Burden: 11,667 hours.

Estimated Annual Burden Per Respondent: 35 minutes.

Frequency of Response: Voluntary.

Estimated Number of Respondents: 20,000.

Dated: May 18, 2000.
By direction of the Secretary.
Donald L. Neilson,
Director, Information Management Service.

[FR Doc. 00-16162 Filed 6-26-00; 8:45 am]

BILLING CODE 8320-01-P